DEPARTMENT OF COMMERCE

National Oceanic and Atmospheric Administration

RIN 0648-XE365

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold eight public hearings and a webinar to solicit public comments on Shrimp Amendment 17A.

DATES: The public hearings will be held January 5-14, 2016. The meetings will begin at 6 p.m. and will conclude no later than 9 p.m. For specific dates and times, see SUPPLEMENTARY INFORMATION. Written public comments must be received on or before 5 p.m. EST on Friday, January 15, 2016.

ADDRESSES: The public documents can be obtained by contacting the Gulf of Mexico Fishery Management Council, 2203 N. Lois Avenue, Suite 1100, Tampa, FL 33607; (813) 348-1630 or on their Web site at www.gulfcouncil.org.

Meeting addresses: The public hearings will be held in Ft. Myers and Tampa, FL; Palacios and Brownsville, TX; Biloxi, MS; Tillman's Corner, AL, Houma and Gretna, LA, and one webinar. For specific locations, see SUPPLEMENTARY INFORMATION.

Public comments: Comments may be submitted online through the Gulf Council's public portal by visiting www.gulfcouncil.org and clicking on “CONTACT US”.

FOR FURTHER INFORMATION CONTACT: Douglas Gregory, Executive Director, Gulf of Mexico Fishery Management Council; telephone: (813) 348-1630.

SUPPLEMENTARY INFORMATION: The agenda for the following eight hearings and one webinar are as follows: Council staff will brief the public on Amendment 17A to the Shrimp Fishery Management Plan. Shrimp Amendment 17A includes two actions. The first action addresses the expiration of the Federal shrimp permit moratorium in the Gulf of Mexico. The second action addresses the royal red shrimp endorsement currently required to harvest royal red shrimp from the Gulf EEZ. Staff will then open the meeting for questions and public comments. The schedule is as follows:

Locations, Schedules, and Agendas

Tuesday, January 5, 2016, Webinar—6 p.m. EST; register to participate at https://attendee.gotowebinar.com/register/3167341526669430786

Wednesday, January 6, 2016, Hampton Inn & Suites, 4350 Executive Circle, Fort Myers, FL 33916; telephone: (239) 931-5300.

Thursday, January 7, 2016, Hilton Tampa Airport Westshore Hotel, 2225 North Lois Avenue, Tampa, FL 33607; telephone: (813) 877-6688.

Monday, January 11, 2016, Port of Palacios, 1602 Main Street, Palacios, TX 77465; telephone: (361) 972-5556; IP Casino and Resort, 850 Bayview Avenue, Biloxi, MS; telephone: (228) 436-3000.

Tuesday, January 12, 2016, Courtyard by Marriott, 3955 North Expressway, Brownsville, TX 78520; telephone: (956) 350-4600; Holiday Inn Mobile, 5465 Highway 90 West, Mobile, AL 33619; telephone: (251) 666-5600.

Wednesday, January 13, 2016, Courtyard by Marriott, 142 Library Drive, Houma, LA 70360; telephone: (985) 223-8996.

Thursday, January 14, 2016, Holiday Inn New Orleans Westbank, 275 Whitney Avenue, Gretna, LA 70053; telephone: (504) 366-8535.

Special Accommodations

These meetings are physically accessible to people with disabilities. Requests for sign language interpretation or other auxiliary aids should be directed to Kathy Pereira (see ADDRESSES), at least 5 working days prior to the meeting date.

Authority: 16 U.S.C. 1801 et seq.

Dated: December 15, 2015.
Jeffrey N. Lonergan,
Acting Deputy Director, Office of Sustainable Fisheries, National Marine Fisheries Service.

[FR Doc. 2015-31860 Filed 12-17-15; 8:45 am]

BILLING CODE 3510-22-P